DEPARTMENT OF DEFENSE

Department of the Air Force

Notice To Extend Public Comment Period for United States Air Force F-35A Operational Basing Environmental Impact Statement

AGENCY: The United States Air Force, DoD.

ACTION: Notification of Extension of Public Comment Period.

SUMMARY: The U.S. Air Force is issuing this notice to advise the public of an extension to the public comment period. The initial Notice of Availability published in the Federal Register on April 13, 2012 (Vol. 77, No. 72/Notices/22315) requested public comments no later than June 4, 2012. The Air Force has extended the deadline for submitting public comments to June 20, 2012. All substantive comments on the Draft EIS received during the public comment period will be considered in the preparation of the Final EIS.

FOR FURTHER INFORMATION CONTACT: Please direct any written comments or requests for information to Mr. Nicholas Germanos, ACC/A7PS, 129 Andrews St., Suite 332, Langley AFB, VA 23665, ph: 757-764-9334.

Henry Williams Jr.,
DAF, Acting Air Force Federal Register Liaison Officer.

[FR Doc. 2012-12458 Filed 5-22-12; 8:45 am]

BILLING CODE 5001-10-P